DEPARTMENT OF COMMERCE

International Trade Administration

[A-549-833]

Citric Acid and Certain Citrate Salts From Thailand: Partial Rescission of Antidumping Duty Administrative Review, 2019-2020

AGENCY: Enforcement and Compliance, International Trade Administration, Department of Commerce.

SUMMARY: The Department of Commerce (Commerce) is rescinding the administrative review of the antidumping duty order on citric acid and certain citrate salts (citric acid) from Thailand covering the period of review (POR) July 1, 2019, through June 30, 2020, in part, with respect to Niran (Thailand) Co., Ltd. (Niran), based on a timely withdrawal of the request for review for Niran.

DATES: Applicable February 3, 2021.

FOR FURTHER INFORMATION CONTACT: Joy Zhang, AD/CVD Operations, Office III, Enforcement and Compliance, International Trade Administration, U.S. Department of Commerce, 1401 Constitution Avenue NW, Washington, DC 20230; telephone: (202) 482-1168.

SUPPLEMENTARY INFORMATION:

Background

On July 1, 2020, Commerce published in the Federal Register a notice of opportunity to request an administrative review of the antidumping duty order on citric acid from Thailand for the period July 1, 2019, through June 30, 2020.¹ Based on timely requests from COFCO Biochemical (Thailand) Co., Ltd. (COFCO), Sunshine Biotech International Co., Ltd. (Sunshine), and Archer Daniels Midland Company, Cargill, Incorporated, and Tate & Lyle Ingredients Americas LLC, domestic producers of the subject merchandise and petitioners in the original investigation (collectively, the petitioners),² on September 3, 2020, in accordance with 751(a)(1) of the Tariff Act of 1930, as amended (the Act), Commerce published in the Federal Register a notice of initiation of administrative review covering COFCO, Sunshine, and Niran.³ On September 17, 2020, Commerce selected COFCO and Sunshine for individual examination and issued the antidumping duty questionnaire to the companies.⁴

¹ See Antidumping or Countervailing Duty Order, Finding, or Suspended Investigation; Opportunity to Request Administrative Review, 85 FR 39531 (July 1, 2020).

² See COFCO's Letter, “Citric Acid and Certain Citrate Salts from Thailand: Request for Administrative Review,” dated July 28, 2020; see also Sunshine's Letter, “Antidumping Duty Investigation of Citric Acid and Certain Citrate Salts from Thailand: Sunshine Biotech Request for Review,” dated July 31, 2020; and Petitioners' Letter, “Citric Acid and Certain Citrate Salts From Thailand: Petitioners' Request For Administrative Review,” dated July 30, 2020 (the petitioners requested review of COFCO, Sunshine, and Niran).

³ See Initiation of Antidumping and Countervailing Duty Administrative Reviews, 85 FR 172 (September 3, 2020).

⁴ See Memorandum, “Antidumping Duty Administrative Review of Citric Acid and Certain Citrate Salts from Thailand; 2019-2020: Selection of Respondents for Individual Examination,” dated September 17, 2020. See also Antidumping Questionnaires sent to COFCO and Sunshine, dated September 21, 2020.

On September 18, 2020, Niran filed a no-shipment certification.⁵ On October 8, 2020, U.S. Customs and Border Protection (CBP) confirmed that there were no shipments of subject merchandise from Niran during the POR.⁶ On November 19, 2020, the petitioners withdrew their request for an administrative review with respect to Niran.⁷

⁵ See Niran's Letter, “Citric Acid and Certain Citrate Salts from Thailand: No Shipment Certification,” dated September 18, 2020.

⁶ See Memorandum, “Citric Acid and Certain Citrate Salts from Thailand (A-549-833): No shipments inquiry with respect to the company listed below during the period 7/1/2019 through 6/30/2020,” dated October 9, 2020.

⁷ See Petitioners' Letter, “Citric Acid and Certain Citrate Salts From Thailand: Partial Withdrawal of Request For Administrative Review,” dated November 19, 2020.

Scope of the Order

The merchandise covered by the order is citric acid and certain citrate salts from Thailand. The scope of the order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate.

The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope does not include calcium citrate that satisfies the standards set forth in the United States Pharmacopeia and has been mixed with a functional excipient, such as dextrose or starch, where the excipient constitutes at least 2 percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS subheadings are provided for convenience and customs purposes, the written description of the merchandise is dispositive.

Partial Rescission of Administrative Review

Pursuant to 19 CFR 351.213(d)(1), Commerce will rescind an administrative review, in whole or in part, if a party who requested the review withdraws the request within 90 days of the date of publication of notice of initiation of the requested review. The aforementioned withdrawal request was timely submitted, and no other interested party requested an administrative review of this particular company. Therefore, in accordance with 19 CFR 351.213(d)(1), and consistent with our practice,⁸ we are rescinding this review of the antidumping duty order on citric acid from Thailand, in part, with respect to Niran.

⁸ See, e.g., Certain Lined Paper Products from India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

The review will continue with respect to COFCO and Sunshine.

Assessment

Commerce will instruct CBP to assess antidumping duties on all appropriate entries. For Niran, for which this review is rescinded, antidumping duties shall be assessed at rates equal to the cash deposit of estimated antidumping duties required at the time of entry, or withdrawal from warehouse, for consumption, during the period July 1, 2019, through June 30, 2020, in accordance with 19 CFR 351.212(c)(1)(i). Commerce intends to issue appropriate assessment instructions to CBP no earlier than 35 days after the date of publication of this rescission notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice serves as a final reminder to parties subject to administrative protective order (APO) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: January 29, 2021.
James Maeder,
Deputy Assistant Secretary for Antidumping and Countervailing Duty Operations.

[FR Doc. 2021-02232 Filed 2-2-21; 8:45 am]

BILLING CODE 3510-DS-P